DEFENSE NUCLEAR FACILITIES SAFETY BOARD

Second Extension of Hearing Record Closure Date

AGENCY: Defense Nuclear Facilities Safety Board.

ACTION: Second extension of hearing record closure date.

SUMMARY: The Defense Nuclear Facilities Safety Board (Board) published a document in the Federal Register on August 15, 2012, (77 FR 48970), as amended, September 7, 2012, (77 FR 55196). The publication concerned notice of a hearing and meeting on October 2, 2012, regarding safety-related aspects of the design and factors that could affect the timely execution of the Uranium Processing Facility (UPF) project at the Y-12 National Security Complex. The Board stated in the August 15, 2012, hearing notice that the hearing record would remain open until November 2, 2012, for the receipt of additional materials. The Board subsequently extended the hearing record closure date to January 2, 2013 (77 FR 65871).

Extension of Time: The Board now extends the period of time for which the hearing record will remain open to January 16, 2013, to further accommodate submission of answers to questions taken for the record during the course of the public hearing.

Contact Person for Further Information: Debra H. Richardson, Deputy General Manager, Defense Nuclear Facilities Safety Board, 625 Indiana Avenue NW., Suite 700, Washington, DC 20004-2901, (800) 788-4016. This is a toll-free number.

Dated: January 2, 2013.
Peter S. Winokur,
Chairman.

[FR Doc. 2013-00096 Filed 1-7-13; 8:45 am]

BILLING CODE 3670-01-P